EXPORT-IMPORT BANK

[Public Notice: 2013-3006]

Agency Information Collection Activities: Comment Request

AGENCY: Export-Import Bank of the United States.

ACTION: Submission for OMB review and comments request.

Form Title: EIB 92-50 Short-Term Multi-Buyer Export Credit Insurance Policy Applications (ST Multi-Buyer).

SUMMARY: The Export-Import Banks of the United States (Ex-Im Bank), as part of its continuing effort to reduce paperwork and respondent burden, invites the general public and other Federal Agencies to comment on the proposed information collection, as required by the Paperwork Reduction Act of 1995.

This collection of information is necessary, pursuant to 12 U.S.C. Sec. 635(a)(1), to determine eligibility of the applicant for Ex-Im Bank assistance.

The Application for Short-Term Multi-Buyer Export Credit Insurance Policy will be used to determine the eligibility of the applicant and the transaction for Export-Import Bank assistance under its insurance program. Export-Import Bank customers will be able to submit this form on paper or electronically.

Five items have been changed on this form. First, the legal certifications have been updated to reflect a new Web site for performing due diligence. Second, two questions related to level of employment have been removed. Third, additional information about “Affiliates” and “Additional Named Insureds” is being requested. Fourth, additional information about “Warehouses” is being requested. Fifth, additional information about “Exclusions” is being requested. The third, fourth and fifth changes are only relevant if the applicant indicates that they have Affiliates, use Warehouses, and/or require Exclusions.

The application tool can be reviewed at: http://www.exim.gov/pub/pending/Form%20EIB%2092-50.pdf

DATES: Comments must be received on or before January 21, 2014 to be assured of consideration.

ADDRESSES: Comments may be submitted electronically on WWW.REGULATIONS.GOV (EIB-2013-0047) or by mail to Office of Information and Regulatory Affairs, 725 17th Street, NW,. Washington, DC 20038 Attn: OMB 3048-EIB92-50.

SUPPLEMENTARY INFORMATION:

Title and Form Number: EIB 92-50 Export-Import Bank of the United States Short-Term Multi-Buyer Export Credit Insurance Policy Applications (ST Multi-Buyer)

OMB Number: 3048-0023.

Type of Review: Regular.

Need and Use: The Application for Short-Term Multi-Buyer Export Credit Insurance Policy will be used to determine the eligibility of the applicant and the transaction for Export-Import Bank assistance under its insurance program.

Affected Public: This form affects entities involved in the export of U.S. goods and services.

Annual Number of Respondents: 285.

Estimated Time per Respondent: 0.5 hours.

Annual Burden Hours: 143.

Frequency of Reporting of Use: As needed.

Government Reviewing Time per Year:

Reviewing Time per Year: 285 hours.

Average Wages per Hour: $42.50.

Average Cost per Year (time*wages): $12,113.

Benefits and Overhead: 20%.

Total Government Cost: $14,535.

Kalesha Malloy,
Agency Clearance Officer, Office of the Chief Information Officer.

[FR Doc. 2013-30195 Filed 12-18-13; 8:45 am]

BILLING CODE 6690-01-P